DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2013, there were seven applications approved. This notice also includes information on one application, approved in April 2013, inadvertently left off the April 2013 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Tweed-New Haven Airport Authority, New Haven, Connecticut.

Application Number: 13-06-C-00-HVN.

Application Type: Impose and use a PFC.

PFC Level: $4.50.

Total PFC Revenue Approved in this Decision: $1,240,855.

Earliest Charge Effective Date: December 1, 2013.

Estimated Charge Expiration Date: July 1, 2020.

Class of Air Carriers Not Required to Collect PFC's:Air taxi/commercial operators nonscheduled/on demand air carriers.

Determination: Approved. Based on information contained in the public agency's application, the FAA has determined that the proposed class accounts for less than 1 percent of the total annual enplanements at Tweed-New Haven Regional Airport.

Brief Description of Project Approved for Collection and Use:Property acquisition.

Decision Date: April 17, 2013.

FOR FURTHER INFORMATION CONTACT: Priscilla Scott, New England region Airports Division, (781) 238-7614.

Public Agency: County of Mercer, West Trenton, New Jersey.

Application Number: 13-03-C-00-TTN.

Application Type: Impose and use a PFC.

PFC Level: $4.50.

Total PFC Revenue Approved in this Decision: $2,913,645.

Earliest Charge Effective Date: March 1, 2014.

Estimated Charge Expiration Date: July 1, 2016.

Class of Air Carriers Not Required to Collect PFC's:Nonscheduled/on demand air carriers filing FAA Form 1800-31.

Determination: Approved. Based on information contained in the public agency's application, the FAA has determined that the proposed class accounts for less than 1 percent of the total annual enplanements at Trenton Mercer Airport.

Brief Description of Projects Approved for Collection and Use:

Acquire snow removal equipment.

Rehabilitate taxiways A, C and J.

Improve runways 6/24 and 16/34 runway safety areas (engineered materials arresting system).

Rehabilitate taxiways H, B, and F.

Airfield marking.

Acquire and install wildlife fence.

Airport security fencing.

Replace aircraft rescue and firefighting vehicles 343 and 344.

Terminal building modifications.

PFC program administration.

Decision Date: July 1, 2013.

FOR FURTHER INFORMATION CONTACT: Lori Ledebohm, Harrisburg Airports District Office, (717) 730-2835.

Public Agency: Counties of Lackawanna and Luzerne, Avoca, Pennsylvania.

Application Number: 13-10-C-00-AVP.

Application Type: Impose and use a PFC.

PFC Level: $4.50.

Total PFC Revenue Approved in this Decision: $10,000.

Earliest Charge Effective Date: July 1, 2029.

Estimated Charge Expiration Date: July 1, 2031.

Class of Air Carriers Not Required to Collect PFC's:None.

Brief Description of Projects Approved for Collection and Use:

Acquire quick response aircraft rescue and firefighting vehicle.

Acquire aircraft rescue and firefighting equipment.

Decision Date: July 12, 2013.

FOR FURTHER INFORMATION CONTACT: Lori Ledebohm, Harrisburg Airports District Office, (717) 730-2835.

Public Agency: City of Garden City, Kansas.

Application Number: 13-01-C-00-GCK.

Application Type: Impose and use a PFC.

PFC Level: $4.50.

Total PFC Revenue Approved in this Decision: $770,628.

Earliest Charge Effective Date: October 1, 2013.

Estimated Charge Expiration Date: October 1, 2022.

Class of Air Carriers Not Required to Collect PFC's:Nonscheduled/on demand air taxi operators filing FAA Form 1800-31.

Determination: Approved. Based on information contained in the public agency's application, the FAA has determined that the proposed class accounts for less than 1 percent of the total annual enplanements at Garden City Regional Airport.

Brief Description of Projects Approved for Collection and Use:

Security enhancements.

Rehabilitate runway.

Snow removal equipment—broom.

Design and rehabilitate taxiway and runway lighting.

Rehabilitate taxiway—phase I.

Install runway vertical/visual guidance system.

Rehabilitate taxiway.

Aircraft rescue and firefighting vehicle.

Aircraft rescue and firefighting building.

Rehabilitate taxiway—phase II.

Rehabilitate taxiway—phase III.

Rehabilitate taxiway—phase IV.

Rehabilitate taxiway—phase V.

Airport master plan.

Wildlife fence—phase 1.

Decision Date: July 15, 2013.

FOR FURTHER INFORMATION CONTACT: Sheila Bridges, Central Region Airports Division, (816) 329-2638.

Public Agency: City of Pocatello, Idaho.

Application Number: 13-07-C-00-PIH.

Application Type: Impose and use a PFC.

PFC Level: $4.50.

Total PFC Revenue Approved in this Decision: $210,835.

Earliest Charge Effective Date: August 1, 2015.

Estimated Charge Expiration Date: March 1, 2018.

Class of Air Carriers Not Required to Collect PFC's:None.

Brief Description of Projects Approved for Collection and Use:

Snow removal equipment acquisition (broom).

Terminal jet bridge modification (design).

Pavement condition index maintenance update.

Taxilane construction/conversion.

Terminal jet bridge and gate modification (construction).

General aviation ramp rehabilitation (phase I).

Taxiway E relocation.

Runway 03 precision approach path indicator installation.

General aviation apron rehabilitation (phase II).

Snow removal equipment acquisition (tractor).

PFC administration.

Decision Date: July 16, 2013.

FOR FURTHER INFORMATION CONTACT: Trang Tran, Seattle Airports District Office, (425) 227-1662.

Public Agency: County of San Joaquin, Stockton, California.

Application Number: 13-06-C-00-SCK.

Application Type: Impose and use a PFC.

PFC Level: $4.50.

Total PFC Revenue Approved in this Decision: $792,000.

Earliest Charge Effective Date: September 1, 2013.

Estimated Charge Expiration Date: June 1, 2016.

Class of Air Carriers Not Required to Collect PFC's: Non-scheduled/on-demand air carriers filing FAA Form 1800-31.

Determination: Approved. Based on information contained in the public agency's application, the FAA has determined that the proposed class accounts for less than 1 percent of the total annual enplanements at Stockton Metropolitan Airport.

Brief Description of Project Approved for Collection and Use:

Terminal building renovations.

Americans with Disabilities Act access improvements.

Rehabilitation of runway 11L/29R lighting system.

Decision Date: July 18, 2013.

FOR FURTHER INFORMATION CONTACT: Neil Kumar, San Francisco Airports District Office, (650) 827-7627.

Public Agency: Texas A&M University, College Station, Texas.

Application Number: 13-06-C-00-CLL.

Application Type: Impose and use a PFC.

PFC Level: $4.50.

Total PFC Revenue Approved in this Decision: $1,233,207.

Earliest Charge Effective Date: December 1, 2013.

Estimated Charge Expiration Date: May 1, 2018.

Class of Air Carriers Not Required to Collect PFC's: None.

Brief Description of Projects Approved for Collection and Use:

Construct apron.

Rehabilitate taxiway H.

Improve airport drainage.

Rehabilitate runway 10/28.

Acquire aircraft rescue and firefighting vehicle.

Construct taxiway G.

Master plan update study.

Rehabilitate apron.

PFC application and administration costs.

Decision Date: July 25, 2013.

FOR FURTHER INFORMATION CONTACT: Steven Cooks, Texas Airports Development Office, (817) 222-5600.

Public Agency: City of Durango and County of La Plata, Durango, Colorado.

Application Number: 13-08-C-00-DRO.

Application Type: Impose and use a PFC.

PFC Level: $4.50.

Total PFC Revenue Approved in this Decision: $10,400,800.

Earliest Charge Effective Date: September 1, 2013.

Estimated Charge Expiration Date: April 1, 2016.

Class of Air Carriers Not Required to Collect PFC's: None.

Brief Description of Projects Approved for Collection and Use:

Rehabilitate vehicle service road.

Update terminal area master plan.

Commercial ramp utility relocation.

Terminal building expansion design.

Terminal building expansion.

Rehabilitate taxiway A.

Rehabilitate taxiway A1 to A6 (design).

Decision Date: July 30, 2013.

FOR FURTHER INFORMATION CONTACT: Jesse Lyman, Denver Airports District Office, (303) 342-1262.

Amendments to PFC Approvals
Amendment No., city, state | Amendment approved date | Original approved net PFC revenue | Amendment approved net PFC revenue | Original estimated charge exp. date | Amended estimated charge exp. date
13-04-C-01-HGR, Hagerstown, MD | 07/08/13 | $12,298 | $12,303 | 04/01/13 | 04/01/13
06-10-C-02-SLC, Salt Lake City, UT | 07/10/13 | 72,172,545 | 71,783,176 | 07/01/09 | 10/01/08
05-08-C-03-COS, Colorado Springs, CO | 07/12/13 | 7,756,638 | 7,404,661 | 10/01/05 | 09/01/05
05-09-C-02-COS, Colorado Springs, CO | 07/12/13 | 6,255,000 | 6,116,216 | 01/01/08 | 10/01/07
06-04-C-03-UNV, State College, PA | 07/19/13 | 1,283,662 | 1,282,967 | 02/01/09 | 02/01/09
07-05-C-01-PIH, Pocatello, ID | 07/23/13 | 405,300 | 419,295 | 06/01/11 | 02/01/10
99-01-C-06-ACY, Atlantic City, NJ | 07/23/13 | 8,380,852 | 8,224,054 | 02/01/06 | 02/01/06
03-02-C-05-ACY, Atlantic City, NJ | 07/24/13 | 1,363,575 | 1,347,095 | 06/01/07 | 11/01/06
06-04-U-01-ACY, Atlantic City, NJ | 07/24/13 | NA | NA | 06/01/07 | 11/01/06
08-06-C-01-ACY, Atlantic City, NJ | 07/24/13 | 5,515,092 | 5,490,092 | 04/01/11 | 04/01/11
07-06-C-02-GCC, Gillette, WY | 07/24/13 | 91,395 | 116,169 | 11/01/10 | 01/01/11
10-06-C-01-BIL, Billings, MT | 07/25/13 | 2,856,620 | 2,223,924 | 09/01/11 | 01/01/11

Issued in Washington, DC on December 6, 2013.
Joe Hebert,
Manager, Financial Analysis and Passenger Facility Charge Branch.

[FR Doc. 2013-29927 Filed 12-16-13; 8:45 am]

BILLING CODE 4910-13-P